DEPARTMENT OF ENERGY

Federal Energy Regulatory Commission

[Project No. 2246-065]

Yuba County Water Agency; Notice of Application Accepted for Filing, Soliciting Motions To Intervene and Protests, Ready for Environmental Analysis, and Soliciting Comments, Recommendations, Preliminary Terms and Conditions, and Preliminary Fishway Prescriptions

Take notice that the following hydroelectric application has been filed with the Commission and is available for public inspection.

a. Type of Application: Major License.

b. Project No.: 2246-065.

c. Date filed: April 28, 2014.

d. Applicant: Yuba County Water Agency (YCWA).

e. Name of Project: Yuba River Development Project.

f. Location: The Yuba River Development Project facilities are located on the western slope of the Sierra Nevada on the main stems of the Yuba River, the North Yuba River, the Middle Yuba River, and Oregon Creek (a tributary to the Middle Yuba River) in Yuba, Sierra, and Nevada Counties, California. Portions of the project occupy lands of the Plumas and Tahoe National Forests.

g. Filed Pursuant to: Federal Power Act, 16 U.S.C. 791(a)-825(r).

h. Applicant Contact: Curt Aikens, General Manager, Yuba County Water Agency, 1220 F Street, Marysville, California 95901, 530-741-6278.

i. FERC Contact: Alan Mitchnick at (202) 502-6074 or alan.mitchnick@ferc.gov.

j. Deadline for filing motions to intervene and protests, comments, recommendations, preliminary terms and conditions, and preliminary prescriptions: 60 days from the issuance date of this notice; reply comments are due 105 days from the issuance date of this notice.

The Commission strongly encourages electronic filing. Please file motions to intervene, protests, comments, recommendations, preliminary terms and conditions, and preliminary fishway prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2246-065.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. New Colgate Development: The New Colgate development consists of the following existing facilities: (1) The 70-foot-high, 368-foot-long Our House diversion dam with a storage capacity of 280 acre-feet, located on the Middle Yuba River 12.0 miles upstream of its confluence with the North Yuba River; (2) the 12.5-foot-high by 12.5-foot-wide, 19,410-foot-long Lohman Ridge diversion tunnel that conveys a maximum flow of 860 cubic feet per second (cfs) from the Middle Yuba River to Oregon Creek; (3) the 42.5-foot-high and 105-foot-radius Log Cabin diversion dam on Oregon Creek with a storage capacity of 90 acre-feet; (4) the 6,107-foot-long Camptonville diversion tunnel, with the capacity to convey 1,100 cfs of water to New Bullards Bar reservoir on the North Yuba River; (5) the 645-foot-high, 2,323-foot-long New Bullards Bar dam located on the North Yuba River about 2.3 miles upstream of its confluence with the Middle Yuba River, with an actual release capacity of 1,250 cfs; (6) the New Bullards Bar reservoir, a storage reservoir on the North Yuba River formed by New Bullards Bar dam, with a storage area of 4,790 acres; (7) the New Bullards Bar dam overflow-type spillway with a width of 106 feet and a crest elevation of 1,902 feet; (8) the 5.2-mile-long New Colgate Power tunnel and penstock, with a maximum flow capacity of 3,500 cfs; (9) the New Colgate powerhouse, located adjacent to the Yuba River containing two Pelton type turbines with a total generating capacity of 315 megawatts (MW); (10) the New Colgate switchyard, located adjacent to the New Colgate powerhouse; (11) recreation facilities on New Bullards Bar reservoir, including Emerald Cove Marina, Hornswoggle Group Camp, Schoolhouse Family Camp, Dark Day Campground, Dark Day Boat Ramp, Garden Point Campground, Madrone Cove Campground, and Cottage Creek Boat Ramp; and (12) appurtenant facilities and features including access roads.

YCWA proposes to: (1) Construct a flood control outlet at New Bullards Bar dam; (2) construct a tailwater depression system at New Colgate powerhouse; (3) modify the Our House diversion dam fish release outlet; (4) modify the Log Cabin diversion dam fish release outlet; (5) modify the Lohman Ridge diversion tunnel intake; (6) modify recreation facilities at New Bullards Bar reservoir, including construction of Kelly Ridge campground and recreation vehicle dump station; and (7) modify project roads.

New Bullards Bar Minimum Flow Development: The New Bullards Bar Minimum Flow Development consists of the following existing facilities: (1) The 70-foot long, 12-inch-diameter New Bullards minimum flow powerhouse penstock with a maximum flow capacity of 6 cfs; (2) the New Bullards minimum flow powerhouse, containing a single Pelton turbine with a capacity of 150 kilowatts; (3) the New Bullards minimum flow transformer, located adjacent to the New Bullards minimum flow powerhouse; and (4) appurtenant facilities and features, including access roads.

Narrows 2 Development: The Narrows 2 Development consists of the following existing facilities: (1) The Narrows 2 powerhouse penstock, a tunnel that is 20 feet in diameter and concrete lined in the upper 376 feet, and 14 feet in diameter and steel lined for the final 371.5 feet, with a maximum flow capacity of 3,400 cfs; (2) the Narrows 2 flow bypass, a valve and penstock branch off the main Narrows 2 penstock that provides the capability to bypass flows of up to 3,000 cfs around the Narrows 2 powerhouse during times of full or partial powerhouse shutdowns; (3) the Narrows 2 powerhouse, an indoor powerhouse located at the base of the U.S. Army Corps of Engineers' Englebright dam, consisting of one vertical axis Francis turbine with a generating capacity of 46.7 MW; (4) the Narrows 2 powerhouse switchyard, located adjacent to the powerhouse; and (5) appurtenant facilities and features, including access roads.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, PRELIMINARY TERMS AND CONDITIONS, or PRELIMINARY FISHWAY PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target date
Filing of recommendations, preliminary terms and conditions, and preliminary fishway prescriptions | August 2017.
Commission issues Draft Environmental Statement (EIS) | March 2018.
Comments on Draft EIS | May 2018.
Modified Terms and Conditions | July 2018.
Commission Issues Final EIS | October 2018.

p. Final amendments to the application must be filed with the Commission no later than 30 days from the issuance date of this notice.

q. A license applicant must file no later than 60 days following the date of issuance of the notice of acceptance and ready for environmental analysis provided for in 5.22: (1) A copy of the water quality certification; (2) a copy of the request for certification, including proof of the date on which the certifying agency received the request; or (3) evidence of waiver of water quality certification.

Dated: June 26, 2017.
Nathaniel J. Davis, Sr.,
Deputy Secretary.

[FR Doc. 2017-13964 Filed 6-30-17; 8:45 am]

BILLING CODE 6717-01-P